DEPARTMENT OF THE INTERIOR

Bureau of Reclamation

Folsom Dam Safety and Flood Damage Reduction (DS/FDR) Action—Sacramento, El Dorado, and Placer Counties, CA

AGENCY: Bureau of Reclamation, Interior.

ACTION: Notice of availability of the Draft Environmental Impact Statement/Environmental Impact Report (EIS/EIR) and notice of public hearings.

SUMMARY: Pursuant to section 102(2)(c) of the National Environmental Policy Act of 1969 (NEPA), CEQ NEPA Regulations (40 CFR 1502.9[c][1]), and Public Resources Code, sections 21000-21177 of the California Environmental Quality Act (CEQA) and the California Code of Regulations, title 14, section 15088.5 of the CEQA Guidelines, the Bureau of Reclamation (Reclamation), the lead Federal agency; the U.S. Army Corps of Engineers (Corps), a cooperating Federal agency; the Reclamation Board of the State of California, the lead State agency; and the Sacramento Area Flood Control Agency (SAFCA), the local sponsor, have made available for public review and comment a Draft EIS/EIR for the Folsom DS/FDR Action.

The Folsom DS/FDR Draft EIS/EIR describes five action alternatives which include numerous features that address previously identified and ongoing dam safety, flood damage reduction, and security issues by modifying Folsom Dam and Appurtenant Structures (the Folsom Facility). The alternatives include features that would address Reclamation's dam safety objectives and the Corps' flood damage reduction objectives jointly, as well as features or increments that would exclusively address dam safety, security, or flood damage reduction objectives and would be constructed and authorized by the respective agencies. Engineering, economic, and environmental studies have been conducted to help determine reasonable design alternatives and their impacts. The no action alternative is also included in these analyses.

As part of the NEPA process, two public hearing sessions will be held to provide interested individuals and organizations with an opportunity to comment verbally and in writing on the Folsom DS/FDR Draft EIS/EIR. The first hour of each public hearing session will allow time to review information stations and displays, ask questions, and provide written comments on comment forms; the formal hearing will be held for one hour and be extended to two hours if needed. Information gathered from the EIS/EIR review process will be used in conjunction with technical and economic principles to determine the preferred alternative.

DATES: Comments on the Folsom DS/FDR Draft EIS/EIR should be submitted on or before Monday, January 22, 2007 to Mr. Shawn Oliver at the address below.

Two public hearings will be held:

• Tuesday, January 9, 2007, 2 to 4 p.m. (to be extended 1 additional hour, if needed), Sacramento, CA.

• Wednesday, January 10, 2007, 7 to 9 p.m. (to be extended 1 additional hour, if needed), Folsom, CA.

ADDRESSES: The public hearings will be held at:

• Sacramento at the Sacramento Library Galleria, 828 I Street, Sacramento, CA.

• Folsom at Folsom Community Center, 52 Natoma Street, Folsom, CA.

Send written comments on the Folsom DS/FDR Draft EIS/EIR to Mr. Shawn Oliver, Bureau of Reclamation, 7794 Folsom Dam Road, Folsom, CA 95630 (e-mail: soliver@mp.usbr.gov). Send requests for a compact disk or a bound copy of the Draft EIS/EIR to Ms. Rosemary Stefani, Bureau of Reclamation, 2800 Cottage Way, Sacramento, CA 95825, telephone: (916) 978-5309, or e-mail: rstefani@mp.usbr.gov. The Folsom DS/FDR Draft EIS/EIR will also be available on the Web at: http://www.usbr.gov/mp/nepa/nepa_projdetails.cfm?Project_ID=1808

Copies of the Folsom DS/FDR Draft EIS/EIR are available for public review at the following locations:

• Bureau of Reclamation, Denver Office Library, Building 67, Room 167, Denver Federal Center, 6th and Kipling, Denver, CO 80225.

• Bureau of Reclamation, Mid-Pacific Regional Office Library, 2800 Cottage Way, W-1825, Sacramento, CA 95825-1898.

• El Dorado County Library, 345 Fair Lane, Placerville, CA 95667-5699.

• Folsom Public Library, 300 Persifer Street, Folsom, CA 95630.

• Natural Resources Library, U.S. Department of the Interior, 1849 C Street, NW., Main Interior Building, Washington, DC 20240-0001.

• Roseville Public Library, 311 Vernon Street, Roseville, CA 95678.

• Sacramento Central Library, 828 I Street, Sacramento, CA 95814-2589.

FOR FURTHER INFORMATION CONTACT: Mr. Shawn Oliver at (916) 989-7256, TDD (916) 978-5608; e-mail soliver@mp.usbr.gov.

SUPPLEMENTARY INFORMATION: The Folsom Facility consists of 12 structures (dams and dikes), which impound the American River forming the Folsom Reservoir. Both Reclamation and the Corps share in the responsibility of ensuring that the Folsom Facility is maintained and operated under their respective agency dam safety regulations and guidelines, as defined by Congress. As a part of their responsibilities, Reclamation and the Corps have determined that the Folsom Facility requires structural improvements to increase overall public safety above existing conditions by improving the facilities' ability to reduce flood damages and address dam safety issues posed by hydrologic (flood), seismic (earthquake), and static (seepage) events. While these events have a low probability of occurrence in a given year, due to the large population downstream of Folsom Dam, modifying the facilities is prudent and required to improve public safety above current baseline conditions.

Reclamation has identified the need for expedited action to reduce hydrologic, static, and seismic risks under its Safety of Dams Program. The Corps in partnership with the Reclamation Board/DWR and SAFCA have identified the need to reduce the risk of flooding in the Sacramento area. These agencies have combined their efforts resulting in common solutions to be phased-in for the structural and functional concerns of the Folsom Facility.

The Folsom DS/FDR Draft EIS/EIR discusses the project background, purpose and need, project description and alternatives, and related projects. The Draft EIS/EIR addresses the impacts of project construction on aquatic resources, terrestrial vegetation and wildlife, hydrology, water quality, groundwater, water supply, hydropower resources, socioeconomics, soils, minerals, geological resources, visual resources, agricultural resources, transportation and circulation, noise, cultural resources, land use, planning and zoning, recreation resources, public services and utilities, air quality, population and housing, public health and safety, public services and utilities, environmental justice, and Indian trust assets.

Additional Information

If special assistance is required at the public hearings, please contact Mr. Shawn Oliver, Bureau of Reclamation, at (916) 989-7256. Please notify Mr. Oliver as far in advance of the hearings as possible to enable Reclamation to secure the needed services. If a request cannot be honored, the requestor will be notified.

Comments received in response to this notice will become part of the administrative record and are subject to public inspection. Our practice is to make comments, including names, home addresses, home phone numbers, and email addresses of respondents, available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Frank Michny,
Acting Assistant Regional Director, Mid-Pacific Region.

[FR Doc. E6-20155 Filed 11-27-06; 8:45 am]

BILLING CODE 4310-MN-P